POSTAL RATE COMMISSION

Facility Tours

AGENCY: Postal Rate Commission.

ACTION: Notice of Commission tour.

SUMMARY: Postal Rate Commissioners and advisory staff members will tour several newspaper, courier and postal facilities in Florida on March 5-7, 2006. Sites include the Miami Herald (in Miami); the Sun-Sentinel (in Fort Lauderdale), both on March 5; DHL Global Mail (in Fort Lauderdale) on March 6; and the Postal Service's International mail facility (in Miami) on March 7. The purpose is to view and discuss the newspapers' mailing-related operations; to observe DHL's operations and discuss how it interfaces with the Postal Service; and to examine Postal Service international mail operations.

DATES: March 5, 6 and 7, 2006.

FOR FURTHER INFORMATION CONTACT: Stephen L. Sharfman, general counsel, Postal Rate Commission, 202-789-6820.

Steven W. Williams,
Secretary.

[FR Doc. 06-1950 Filed 3-1-06; 8:45 am]

BILLING CODE 7710-FW-M